DEPARTMENT OF TRANSPORTATION

Federal Aviation Administration

Change 1 to Advisory Circular 27-1B, Certification of Normal Category Rotorcraft, and Change 1 to Advisory Circular 29-2C, Certification of Transportation Category Rotorcraft

AGENCY: Federal Aviation Administration (FAA), DOT.

ACTION: Notice of issuance of Advisory Circular (AC) changes.

SUMMARY: The FAA announces the issuances of Change 1 to AC 27-1B, Certification of Normal Category Rotorcraft, and Change 1 to AC 29-2C, Certification of Transport Category Rotorcraft. The changes contain guidance material to bring the AC's up to date with the most recent amendments to 14 Code of Federal Regulations (CFR) parts 27 and 29 and current practices.

DATES: The FAA issued Change 1 to AC 27-1B, Certification of Normal Category Rotorcraft, and Change 1 to AC 29-2C, Certification of Transport Category Rotorcraft, on February 12, 2003.

FOR FURTHER INFORMATION CONTACT: Kathy L. Jones, Rotorcraft Standards Staff, FAA, Rotorcraft Directorate, Aircraft Certification Service, Fort Worth, TX 76193-0110; telephone (817) 222-5359; fax (817) 222-5961; e-mail: Kathy.L.Jones@FAA.GOV. Both of the AC's, with Change 1 incorporated, are available on the Internet at the following address: http://www.airweb.faa.gov/rgl. If you do not have access to the Internet, you may request a copy by contacting the individual listed in this section. In the rear future, the Government Printing Office (GPO) will issue a paper coy of Change 1 to both AC's.

SUPPLEMENTARY INFORMATION: The FAA published a notice in the Federal Register on July 26, 2001 (66 FR 39074) that announced the availability of the proposed changes and invited interested parties to comment.

Issued in Fort Worth, Texas, on March 20, 2003.
Eric Bries,
Acting Manager, Rotorcraft Directorate, Aircraft Certification Service.

[FR Doc. 03-7676 Filed 3-28-03; 8:45 am]

BILLING CODE 4910-13-M